ENVIRONMENTAL PROTECTION AGENCY

[FRL-9831-4; EPA-HQ-OEI-2012-0806]

Notification of Deletion of System of Records; Office of Criminal Enforcement, Forensics & Training, National Enforcement Investigations Center, Master Tracking System (EPA-46)

AGENCY: Environmental Protection Agency (EPA).

ACTION: Notice.

SUMMARY: The Environmental Protection Agency is removing the Master Tracking System (EPA-46), published in the Federal Register on October 1, 2011, from its inventory of Privacy Act systems. A personal identifier is no longer used to retrieve the information in the system.

DATES: This notice is effective immediately upon publication in the Federal Register.

FOR FURTHER INFORMATION CONTACT: Valerie James, Infrastructure and Project Support Branch Chief, National Enforcement Investigations Center, Office of Criminal Enforcement, Forensics & Training at (303) 462-9051 or Tammy Stein, Infrastructure Section Chief, National Enforcement Investigations Center, Office of Criminal Enforcement, Forensics & Training at (303) 462-9054, P.O. Box 25227, Denver Federal Center, 6th and Kipling, Building 25, Denver, CO 80225.

SUPPLEMENTARY INFORMATION:

General Information

The Master Tracking System, EPA-46, contains information about individuals who are the subject of investigations conducted by the EPA Office of Criminal Enforcement. The investigative reports concern violations of federal environmental statutes and regulations and include information provided by individuals related to the subject violation. Since personal identifiers are no longer used to retrieve the information in this system, the Agency is deleting the Master Tracking System from its inventory of Privacy Act systems.

How can I get copies of this document and other related information?

EPA established a docket for this action under Docket ID No. EPA-HQ-OEI-2012-0806. Copies of the docket materials are available at www.regulations.gov or in hard copy at the EPA Docket Center (EPA/DC), EPA West, Room 3334, 1301 Constitution Ave. NW., Washington, DC. The EPA Docket Center Public Reading Room is open from 8:30 a.m. to 4:30 p.m., Monday through Friday, excluding legal holidays. The telephone number for the Public Reading Room is (202) 566-1744. The telephone number for the OEI Docket Center is (202) 566-1752.

How can I get electronic access to this document?

You may access this Federal Register document electronically under the “Federal Register” listings at www.regulations.gov.

Dated: June 14, 2013.
Malcolm D. Jackson,
Assistant Administrator and Chief Information Officer.

[FR Doc. 2013-16329 Filed 7-5-13; 8:45 am]

BILLING CODE 6560-50-P